DEPARTMENT OF COMMERCE

National Oceanic and Atmospheric Administration

[RTID 0648-XB774]

Endangered Species; File No. 25602

AGENCY: National Marine Fisheries Service (NMFS), National Oceanic and Atmospheric Administration (NOAA), Commerce.

ACTION: Notice; withdrawal of application.

SUMMARY: Notice is hereby given that Coonamessett Farm Foundation, Inc., 277 Hatchville Road, East Falmouth, MA 02536 (Responsible Party: Ronald Smolowitz) has withdrawn its application for a permit to conduct research on leatherback sea turtles (Dermochelys coriacea) and unidentified sea turtles.

ADDRESSES: The application and related documents are available for review upon written request via email to NMFS.Pr1Comments@noaa.gov.

FOR FURTHER INFORMATION CONTACT: Amy Hapeman or Erin Markin, (301) 427-8401.

SUPPLEMENTARY INFORMATION: On July 20, 2021, notice was published in the Federal Register (86 FR 38296) that a request for a permit to conduct research on leatherback and unidentified sea turtles had been submitted by the above-named applicant. The applicant has withdrawn the application from further consideration.

Dated: January 27, 2022.
Julia M. Harrison,
Chief, Permits and Conservation Division, Office of Protected Resources, National Marine Fisheries Service.

[FR Doc. 2022-02117 Filed 2-1-22; 8:45 am]

BILLING CODE 3510-22-P